DEPARTMENT OF AGRICULTURE

Submission for OMB Review; Comment Request

June 30, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by August 7, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Veterinary Accreditation Program Application Form.

OMB Control Number: 0579-0297.

Summary of Collection: The Animal Health Protection Act, (APHA) of 2002 is the primary Federal law governing the protection of animal health. The APHA is contained in Title X, Subtitle E, Sections 10401-18 of Public Law 107-171, May 13, 2002, the Farm Security and Rural Investment Act of 2002. The law gives the Secretary of Agriculture broad authority to detect, control, or eradicate pests or diseases of livestock or poultry. The Animal and Plant Health Inspection Service (APHIS) is the agency charged with carrying out this disease prevention mission. For APHIS to conduct all its disease prevention tasks, it utilizes APHIS-certified private veterinarians to work cooperatively with Federal and State animal health authorities on the Agency's behalf. Their certification is obtained through the APHIS National Veterinary Accreditation Program (NVAP) which has an application and renewal process.

Need and Use of the Information: APHIS will use VS form 1-36A, National Veterinary Accreditation Program Application Form to collect information to certify private practitioners to work cooperatively with Federal and State animal health authorities as accredited private veterinarians on various approaches for disease prevention and proactive disease surveillance. Applicants may appeal denial, revocation, or suspension of accredited status. The written appeal is prepared in letter format and signed by the denied veterinarian. If information from accredited veterinarians was collected less frequently or not collected, APHIS would lose access to professional and demographic data for more than 100,000 cooperators, and APHIS coverage of veterinary, plant, and agricultural activities would be proportionately reduced.

Description of Respondents: Business or other for-profit.

Number of Respondents: 23,800.

Frequency of Responses: Reporting: On occasion.

Total Burden Hours: 11,901.

Ruth Brown,
Departmental Information Collection Clearance Officer.

[FR Doc. 2017-14169 Filed 7-5-17; 8:45 am]

BILLING CODE 3410-34-P